DEPARTMENT OF HEALTH AND HUMAN SERVICES

Centers for Disease Control and Prevention

[Docket Number CDC-2018-0059; NIOSH-315]

Request for Information About Inorganic Lead (CAS No. 7439-92-1)

AGENCY: National Institute for Occupational Safety and Health (NIOSH) of the Centers for Disease Control and Prevention (CDC), Department of Health and Human Services (HHS).

ACTION: Request for information.

SUMMARY: The National Institute for Occupational Safety and Health (NIOSH) of the Centers for Disease Control and Prevention (CDC) intends to evaluate the scientific data on inorganic lead, to develop updated recommendations on the potential health risks, medical surveillance, recommended measures for safe handling, and to establish an updated Recommended Exposure Limit (REL).

DATES: Electronic or written comments must be received by October 22, 2018.

ADDRESSES: You may submit comments, identified by CDC-2018-0059 and Docket Number NIOSH-315, by any of the following methods:

• Federal eRulemaking Portal: https://regulations.gov. Follow the instructions for submitting comments.

• Mail: National Institute for Occupational Safety and Health, NIOSH Docket Office, 1090 Tusculum Avenue, MS-C34, Cincinnati, Ohio 45226-1998.

Instructions: All information received in response to this notice must include the agency name and docket number [CDC-2018-0059; NIOSH-315]. All relevant comments received will be posted without change to https://www.regulations.gov, including any personal information provided. For access to the docket to read background documents or comments received, go to https://www.regulations.gov. All information received in response to this notice will also be available for public examination and copying at the NIOSH Docket Office, 1150 Tusculum Avenue, Room 155, Cincinnati, OH 45226-1998.

FOR FURTHER INFORMATION CONTACT: R. Todd Niemeier, NIOSH, Robert A. Taft Laboratories, MS C32, 1090 Tusculum Avenue, Cincinnati, Ohio 45226-1998, telephone (513) 533-8166 (not a toll free number).

SUPPLEMENTARY INFORMATION: Inorganic lead is a naturally occurring soft, gray metal used in various forms since ancient times. Occupational exposures occur in a wide range of industries including, but not limited to, the following: Construction, smelting and refining, firing ranges, automobile repair, electronic waste recycling, metal recycling, and many others. Significant occupational exposures to inorganic lead are through inhalation, ingestion, and through the skin, principally through damaged skin.

The current NIOSH REL for inorganic lead is 50 micrograms per cubic meter (μg/m³) as a time-weighted average (TWA) concentration for an 8-hr work shift during a 40-hr workweek [NIOSH 2007].

NIOSH is requesting information on the following: (1) De-identified (without personally identifiable information such as name, social security number, date of birth, etc.) inorganic lead breathing zone airborne exposure measurements with corresponding blood lead level concentrations; (2) information on possible health effects observed in workers exposed to inorganic lead, including exposure data (airborne, blood, and/or surface) and the method(s) used for sampling and analyzing exposures; (3) description of work tasks and scenarios with a potential for exposure to inorganic lead; (4) information on control measures (e.g., engineering controls, work practices, personal protective equipment, exposure data before and after implementation of control measures) that are being used in workplaces with potential exposure to inorganic lead; (5) surveillance findings including protocol, methods, and results; and (6) other relevant information related to occupational exposure to inorganic lead.

Background: The current Recommended Exposure Limit (REL) for inorganic lead is 50 μg/m³ as a Time-weighted Average (TWA) concentration for an 8-hour work shift during a 40-hour workweek [NIOSH 2007]. As part of an effort to identify RELs that may not be adequate to protect workers from adverse health effects due to exposure, NIOSH is reexamining the REL for inorganic lead. The Occupational Safety and Health Administration (OSHA) lead standard, 29 CFR 1910.1025, established a permissible exposure limit (PEL) for inorganic lead at 50 μg/m³ for an 8-hour period with an action level of 30 μg/m³ for an 8-hour period [CFR 2018]. The American Conference of Governmental Industrial Hygienists (ACGIH®) threshold limit value (TLV®)-TWA for lead and inorganic compounds is 50 μg/m³ with an A3 carcinogenicity classification (confirmed animal carcinogen with unknown relevance to humans) [ACGIH 2018].

Information Needs: NIOSH seeks to obtain materials, including published and unpublished reports and research findings, to evaluate the possible health risks of occupational exposure to inorganic lead. Examples of requested information include, but are not limited to, the following:

(1) Identification of industries or occupations in which exposures to inorganic lead may occur.

(2) Trends in the production and use of inorganic lead.

(3) Description of work tasks and scenarios with a potential for exposure to inorganic lead.

(4) Workplace exposure measurement data of inorganic lead (airborne and surface) in various types of industries and jobs with an emphasis on de-identified, breathing zone airborne inorganic lead exposures with corresponding blood lead levels. De-identified data do not contain personally identifiable information that can be used to distinguish or trace an individual's identity.

(5) Case reports or other health information demonstrating potential health effects in workers exposed to inorganic lead.

(6) Information on control measures (e.g., engineering controls, work practices, PPE) being taken to minimize worker exposure to inorganic lead.

(7) Educational materials for worker safety and training on the safe handling of inorganic lead.

(8) Data pertaining to the feasibility of establishing a more protective REL for inorganic lead.

References

ACGIH [2018]. 2018 TLVs® and BEIs®: Threshold limit values for chemical substances and physical agents and biological exposure indices. Cincinnati, OH: American Conference of Governmental Industrial Hygienists.

CFR [2018]. Code of Federal Regulations. Washington, DC: U.S. Government Printing Office, Office of the Federal Register.

NIOSH [2007]. NIOSH pocket guide to chemical hazards. Barsan ME, ed. Cincinnati, OH: U.S. Department of Health and Human Services, Centers for Disease Control and Prevention, National Institute for Occupational Safety and Health, DHHS (NIOSH) Publication No. 2005-149. [http://www.cdc.gov/niosh/npg/].

Dated: August 16, 2018.
Frank J. Hearl,
Chief of Staff, National Institute for Occupational Safety and Health, Centers for Disease Control and Prevention.

[FR Doc. 2018-18019 Filed 8-20-18; 8:45 am]

BILLING CODE 4163-19-P